DEPARTMENT OF THE INTERIOR

Fish and Wildlife Service

Aquatic Nuisance Species Task Force Green Crab Control Committee and Ballast Water and Shipping Committee

AGENCY: Fish and Wildlife Service, Interior.

ACTION: Notice of meetings.

SUMMARY: This notice announces meetings of the Aquatic Nuisance Species (ANS) Task Force Green Crab control Committee and the Ballast Water and Shipping Committee. The meeting topics are identified in the SUPPLEMENTARY INFORMATION.

DATES: The Green Crab Control Committee will meet from 9 a.m. to 5 p.m., Wednesday, February 21, 2001, and 9 a.m. to noon on Thursday, February 22, 2001. The Ballast Water and Shipping Committee will meet from 9:30 a.m. to 3:30 p.m., Friday, March 2, 2001.

ADDRESSES: The Green Crab Control Committee meeting will be held at the Buehler Alumni Center, Old Davis Road, University of California at Davis, Davis, California—Phone 530-752-8111. The Ballast Water and Shipping Committee meeting will be held at the U.S. Coast Guard Headquarters, Room 2415, 2100 Second Street, SW., Washington, DC 20593.

FOR FURTHER INFORMATION CONTACT: Fred Kern, Green Crab Control Committee Chairperson, at 410-226-5193 or by email at Fred.Kern@noaa.gov; LT Mary Pat McKeown, U.S. Coast Guard, Ballast Water and Shipping Committee Chairperson, at 202-267-0500 or by email at mmckeown@comdt.uscg.mil; or Sharon Gross, Executive Secretary, Aquatic Nuisance Species Task Force at 703-358-2308 or by e-mail at sharon_gross@fws.gov.

SUPPLEMENTARY INFORMATION: Pursuant to section 10(a)(2) of the Federal Advisory Committee Act (5 U.S.C. App. I), this notice announces meetings of the Aquatic Nuisance Species Task Force Green Crab control Committee and Ballast Water and Shipping Committee. The Task Force was established by the Nonindigenous Aquatic Nuisance Prevention and Control Act of 1990 (16 U.S.C. 4701-4741). Topics to be addressed at the Green Crab Control Committee meeting include: review and development of Green Crab Management Plan components to address four critical areas including prevention, detection and forecasting, control/eradication, and information access and management; and development of priorities for action. The Ballast Water and Shipping Committee will meet to develop and prioritized list of ballast water related research needs.

Minutes of the meetings will be maintained by the Executive Secretary, Aquatic Nuisance Species Task Force, suite 810, 4401 North Fairfax Drive, Arlington, Virginia 22203-1622, and the Chair of the Ballast Water and Shipping Committee at the Environmental Standards Division, Office of Operations and Environmental Standards, U.S. Coast Guard (G-MSO-4), 2100 Second Street, SW., Room 1309, Washington, DC 20593-0001 and the Chair of the Green Crab Control Committee at the National Oceanic and Atmospheric Administration, Cooperative Oxford Laboratory, 904 South Morris Street, Oxford, Maryland 21654. Minutes for the meetings will be available at these locations for public inspection during regular business hours, Monday through Friday.

Dated: January 25, 2001.
Cathleen I. Short,
Co-Chair, Aquatic Nuisance Species Task Force, Assistant Director—Fisheries and Habitat Conservation.

[FR Doc. 01-3199 Filed 2-6-01; 8:45 am]

BILLING CODE 4310-55-M